DEPARTMENT OF HEALTH AND HUMAN SERVICES

Administration for Children and Families

Submission for OMB Review; Building Evidence on Employment Strategies for Low-Income Families (BEES) (New Collection)

AGENCY: Office of Planning, Research, and Evaluation; Administration for Children and Families; HHS.

ACTION: Request for public comment.

SUMMARY: The Administration for Children and Families (ACF) is proposing a data collection activity as part of the Building Evidence on Employment Strategies for Low-Income Families (BEES). The purpose of BEES is to evaluate the effectiveness of a broad range of innovative programs designed to boost employment and earnings among low-income Americans. Within this general focus area, ACF has a particular interest in programs that serve adults whose employment prospects have been affected by substance use disorder (SUD), opioid use disorder (OUD), mental health conditions, and justice involvement. ACF expects that a subset of programs to be evaluated will serve these specific target populations. To meet these objectives, this study will include impact and implementation evaluations for up to 21 sites, as well as descriptive work focused on other sites that have a focus on clients with opioid use and other substance abuse disorders. When possible, a randomized control trial research design will be used for the impact evaluations. The purpose of the current submission is to request approval for data collection needed for the BEES study.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV. Attn: Desk Officer for the Administration for Children and Families.

Copies of the proposed collection may be obtained by emailing OPREinfocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The BEES impact studies call for multiple data collection points with study participants. Data will be collected from study participants through the following methods: (1) Baseline information form completed by study participants at study entry, (2) study participants will also be asked to periodically update their contact information, (3) interview administered to participants in non-behavioral health sites 6 months after study entry to learn about program participation, (4) interview administered to participants in behavioral health sites approximately 12 months after study entry to learn about employment and related outcomes, (5) individual interviews with up to 6 participants in each site and their case managers. These data will be used to assess the extent to which the programs being evaluated improve participants' employment, earnings, income, behavioral health, and well-being. They will also be used to assess the extent to which individuals in the study receive employment services.

The research team will also collect data from researchers, policy experts, state and local administrators, and program staff to identify potential sites. These data will be collected primarily by telephonic staff interviews using discussion guides.

For the implementation studies, the research team will collect data from program staff to assess program implementation. Information will be collected in consistent ways across sites and, to the extent feasible, will use the same measures and data collection procedures. Data collected from program staff during the study will include the following: (1) Site visit data including staff interviews, (2) interviews with case managers as part of the participant case studies mentioned above, and (3) program staff surveys. These data will be used to measure program implementation and fidelity, factors affecting service delivery, program staff characteristics, and staff time allocation. All impact study sites will include an implementation study. In addition, there will be several descriptive studies of other sites that use some of the implementation instruments to better understand programs serving clients with opioid use and other substance abuse disorders.

Future information collection requests and related Federal Register Notices will describe future data collection efforts for this project.

Respondents: The respondents in this study will include 18,600 participants enrolled in the study, 888 program staff, 10 national policy experts and researchers, and 55 state and local administrators.

Annual Burden Estimates
[3 year clearance]
Instrument | Total number of respondents | Annual number of respondents | Number of responses per respondent | Average burden hours per response | Annual burden hours
Baseline information form for participants | 18,600 | 6,200 | 1 | 0.25 | 1,550
Contact update request form | 5,520 | 1,840 | 1 | 0.1 | 184
6-month follow-up participant interview | 1,680 | 560 | 1 | 0.25 | 140
12-month follow-up participant interview | 3,840 | 1,280 | 1 | 0.5 | 640
Participant case study interview guide | 126 | 42 | 1 | 1.5 | 63
Discussion guide for national policy experts and researchers | 10 | 3 | 1 | 1 | 3
Discussion guide for state and local administrators | 55 | 18 | 1 | 2 | 36
Discussion guide for program staff at potential sites | 72 | 24 | 1 | 2.75 | 66
Program managers, staff, and partner interview guide | 270 | 90 | 1.5 | 1.5 | 203
Program staff case study interview guide | 126 | 42 | 1 | 1 | 42
Program staff survey | 420 | 140 | 1 | 0.5 | 70

Estimated Total Annual Burden Hours: 2,997.

Authority: Section 413 of the Social Security Act, as amended by the FY 2017 Consolidated Appropriations Act, 2017 (Pub. L. 115-31).

Mary B. Jones,
ACF/OPRE Certifying Officer.

[FR Doc. 2019-06898 Filed 4-5-19; 8:45 am]

BILLING CODE 4184-09-P